INTERNATIONAL TRADE COMMISSION

[Investigation No. 731-TA-1189 (Final)]

Large Power Transformers From Korea

Determination

On the basis of the record ¹ developed in the subject investigation, the United States International Trade Commission (Commission) determines,² pursuant to section 735(b) of the Tariff Act of 1930 (19 U.S.C. 1673d(b)) (the Act), that an industry in the United States is materially injured, by reason of imports from Korea of large power transformers, provided for in subheadings 8504.23.00 and 8504.90.95 of the Harmonized Tariff Schedule of the United States, that have been found by the Department of Commerce (Commerce) to be sold in the United States at less than fair value (LTFV).

¹ The record is defined in sec. 207.2(f) of the Commission's Rules of Practice and Procedure (19 CFR 207.2(f)).

² Commissioner Daniel R. Pearson not participating.

Background

The Commission instituted this investigation effective July 14, 2011, following receipt of a petition filed with the Commission and Commerce by ABB Inc., Cary, NC; Delta Star Inc., Lynchburg, VA; and Pennsylvania Transformer Technology Inc., Canonsburg, PA. The final phase of the investigation was scheduled by the Commission following notification of a preliminary determination by Commerce that imports of large power transformers from Korea were being sold at LTFV within the meaning of section 733(b) of the Act (19 U.S.C. 1673b(b)). Notice of the scheduling of the final phase of the Commission's investigation and of a public hearing to be held in connection therewith was given by posting copies of the notice in the Office of the Secretary, U.S. International Trade Commission, Washington, DC, and by publishing the notice in the Federal Register of March 21, 2012 (77 FR 16559). The hearing was held in Washington, DC, on July 10, 2012, and all persons who requested the opportunity were permitted to appear in person or by counsel.

The Commission transmitted its determination in this investigation to the Secretary of Commerce on August 24, 2012. The views of the Commission are contained in USITC Publication 4346 (August 2012), entitled Large Power Transformers from Korea: Investigation No. 731-TA-1189 (Final).

By order of the Commission.
Issued: August 24, 2012.
Lisa R. Barton,
Acting Secretary to the Commission.

[FR Doc. 2012-21371 Filed 8-29-12; 8:45 am]

BILLING CODE 7020-02-P